ENVIRONMENTAL PROTECTION AGENCY

[EPA-HQ-OPP-2022-0223; FRL-11828-02-OCSPP]

Chlorpyrifos; Final Cancellation Order for Certain Pesticide Registrations and Amendment of Certain Pesticide Registrations To Terminate Certain Uses

AGENCY: Environmental Protection Agency (EPA).

ACTION: Notice.

SUMMARY: The Environmental Protection Agency (EPA or Agency) hereby announces its final cancellation order for the cancellations and amendments to terminate uses voluntarily requested by the registrants and accepted by the Agency, of the products listed in Table 1 and Table 2 of Unit II., pursuant to the Federal Insecticide, Fungicide, and Rodenticide Act (FIFRA). This final cancellation order follows a notice in the Federal Register of April 3, 2024, that announced EPA's receipt of and sought comment on requests from the registrants in Table 3 of Unit II. to voluntarily cancel or amend these product registrations. In the April 3, 2024 notice, EPA indicated that it would issue a final cancellation order implementing the requests, unless the Agency received substantive comments within the comment period that would merit further review of these requests, or unless the registrants withdrew their requests. The Agency received two comments on the notice, which are summarized in Unit III.B. The registrants did not withdraw their requests for these voluntary cancellations and amendments. Accordingly, EPA hereby grants the requested cancellations and amendments to terminate uses as shown in this cancellation order. Any distribution, sale, or use of existing stocks of the products listed Table 1 and Table 2 of Unit II are subject to the existing stocks provisions in this cancellation order and permitted only in accordance with the terms of this order.

DATES: The cancellations and amendments are effective August 7, 2024.

ADDRESSES: The docket for this action, identified by docket identification (ID) number EPA-HQ-OPP-2022-0223, is available at https://www.regulations.gov. Additional instructions on visiting the docket, along with more information about dockets generally, are available at https://www.epa.gov/dockets.

FOR FURTHER INFORMATION CONTACT: Patricia Biggio, Pesticide Re-Evaluation Division (7508M), Office of Pesticide Programs, Environmental Protection Agency, 1200 Pennsylvania Ave. NW, Washington, DC 20460-0001; telephone number: (202) 566-0700; email address: OPPChlorpyrifosInquiries@epa.gov.

SUPPLEMENTARY INFORMATION:

I. Does this action apply to me?

This action is directed to the public in general and may be of interest to a wide range of stakeholders including environmental, human health, and agricultural advocates; the chemical industry; pesticide users; and members of the public interested in the sale, distribution, or use of pesticides. Since others also may be interested, the Agency has not attempted to describe all the specific entities that may be affected by this action.

II. What action is the Agency taking?

This document announces the cancellations and amendments through termination of certain uses, as requested by registrants, of products registered under FIFRA section 3 (7 U.S.C. 136a). These registrations are listed in sequence by registration number in Table 1 and Table 2 of this unit.

Table 1—Chlorpyrifos Registrations Amended To Terminate Uses
Registration No. | Product name | Company | Terminated Uses
81964-21 | Chlorpyrifos 61.5% MUP | Chemstarr, LLC | Food processing plants (food and non-food areas).
84229-20 | Chlorpyrifos 4 EC | Tide International | Food uses: Alfalfa; apple tree trunk; asparagus; Brassica (Cole) leafy vegetables: radish, rutabaga, turnip, cauliflower, broccoli, Brussels sprout, cabbage, Chinese cabbage, collards, kale, kohlrabi; citrus: calamondin, chironja, citrus citron, citrus hybrids, grapefruit, kumquat, lemon, lime, mandarin (tangerine), pummelo, Satsuma mandarin, sour orange, sweet orange, tangelo, tangor; corn (field and sweet); cotton; cranberry; legume vegetable: adzuki bean, bean, blackeyed pea, broad bean (dry and succulent), catjang, chickpea, cowpea, crowder pea, English pea, field bean, field pea, garden pea, grain lupin, green pea, guar, lima bean (dry and green), kidney bean, lablab bean, lentil, moth bean, mung bean, navy bean, pea, pigeon pea, pinto bean, rice bean, southern pea, sweet lupin, tepary bean, urd bean, white lupin, white sweet lupin; onion (dry bulb); peanut; peppermint; sorghum (grain sorghum (milo)); soybean; spearmint; sugar beet; sunflower; sweet potato; tree fruits: cherry, nectarine, peach, pear, plum, and prune; tree nuts: almonds, filbert, pecan and walnut; and wheat.

Table 2—Chlorpyrifos Product Cancellations
EPA registration No. | Product name | Company | Active ingredients
89459-72 | Equil Chlorpyrifos ULV 1 | Central Garden & Pet | Chlorpyrifos.
89459-73 | Equil Chlorpyrifos ULV 2 | Central Garden & Pet | Chlorpyrifos.

Table 3—Registrants Requesting Voluntary Cancellation or Termination of Uses
EPA company No. | Company name and address
81964 | Chemstarr, LLC, Agent Name: Pyxis Regulatory Consulting, Inc., 4110 136th Street Ct NW, Gig Harbor, WA 98332.
84229 | Tide International USA, Inc., Agent Name: Pyxis Regulatory Consulting, Inc., 4110 136th Street Ct NW, Gig Harbor, WA 98332.
89459 | Central Garden & Pet, 1501 E Woodfield Rd., Suite 200W, Schaumburg, IL 60173.

III. Public Comments

A. Brief History

In 2021, EPA issued a rule revoking chlorpyrifos tolerances on the grounds that they were not safe (86 FR 48315, August 30, 2021 (FRL-5993-04-OCSPP)). Once those tolerances expired on February 28, 2022, use of pesticide products containing chlorpyrifos on food or feed crops would result in adulterated food, which cannot be sold in interstate commerce. After EPA alerted registrants of chlorpyrifos products of the lack of tolerances and the options for their products, several registrants submitted requests to voluntarily cancel their registered chlorpyrifos products or amend their chlorpyrifos pesticide products to remove food uses.

In 2024, EPA announced the receipt of and sought comment on such requests from the registrants identified in Table 3 of Unit II. (89 FR 23011, April 3, 2024 (FRL-11821-01-OCSPP)). Since the registrants waived the 180-day comment period for these voluntary requests, EPA provided a 30-day comment period on the proposed requests, which closed on May 3, 2024.

B. Summary of Comments Received

EPA received two comments in response to the notice that published in the Federal Register of April 3, 2024. The comments are in the docket for this action and are briefly summarized here.

Neither of the comments specified the products listed in Table 1 or Table 2 of Unit II., but both comments were supportive of the cancellation of the pesticide. One commenter summarized studies found on the Breast Cancer Prevention Partners website. The other comment stated that the proposed provisions for using existing stocks for food uses until June 30, 2025 would subject workers, bystanders, and consumers to health risks, and were not consistent with FIFRA.

C. EPA Response to Comments

This cancellation action is responsive to registrants' requests to cancel specific products and specific uses. In response to both commenters, under FIFRA section 6(f), registrants may, at any time, seek to cancel their products or seek to amend their registrations to terminate specific uses. Under that provision of the statute, EPA provides an opportunity for public comment and then acts on the request. Cancellation of other products or uses that are not requested by the registrants occurs under other provisions of FIFRA, which is beyond the scope of this action and EPA's authority in FIFRA section 6(f).

In addition, in response to the comment submitted by Earthjustice, EPA has determined that the existing stocks provisions are not inconsistent with the purposes of FIFRA, given the limited amount of existing stocks and the limited time allowed for use of the existing stocks outlined in Unit VI.

Regarding the studies on the Breast Cancer Prevention Partners website referenced in the other submitted comment, the commenter may wish to submit this information for consideration during the next public comment period on the registration review of chlorpyrifos, when all currently registered uses of chlorpyrifos will be evaluated.

EPA determined that neither comment merited denial of the registrants' requests for cancellation and amendment.

IV. The Cancellation Order

Pursuant to FIFRA section 6(f) (7 U.S.C. 136d(f)(1)), EPA hereby approves the requested amendments to terminate uses and cancel the registrations identified in Table 1 and Table 2 of Unit II., respectively. Accordingly, the Agency hereby orders that the uses identified for the products listed in Table 1 of Unit II. are terminated, and the product registrations identified in Table 2 of Unit II. are cancelled.

The cancellations and amendments addressed in this Order are effective August 7, 2024. Any distribution, sale, or use of existing stocks of the products identified in Tables 1 and 2 of Unit II. in a manner inconsistent with any of the provisions for disposition of existing stocks set forth in Unit VI. will be a violation of FIFRA.

V. What is the Agency's authority for taking these actions?

Section 6(f)(1) of FIFRA (7 U.S.C. 136d(f)(1)) provides that a registrant of a pesticide product may at any time request that any of its pesticide registrations be cancelled or amended to terminate one or more registered uses. FIFRA further provides that, before acting on the request, EPA must publish a notice of receipt of any such request in the Federal Register and provide a public comment period. EPA must publish a notice in the Federal Register to take final action on such requests and respond to comments received.

VI. Provisions for Disposition of Existing Stocks

Existing stocks for the products identified in this document are those stocks of registered pesticide products that are currently in the United States and that were packaged, labeled, and released for shipment prior to the effective date of the cancellation action. EPA has determined that the following existing stocks provisions are not inconsistent with the purposes of FIFRA given the limited amount of existing stocks and the limited time allowed for use of the existing stocks outlined in this unit.

A. Products Listed in Table 1 of Unit II

• Sale and distribution of existing stocks of Chlorpyrifos 61.5% MUP (81964-21) will not be permitted after the final cancellation order is issued. Although the April 3, 2024 notice indicated that EPA intended to allow sale and distribution of this product until April 30, 2025, that date was intended to apply to end use products only and thus does not apply because this is a MUP. This will also help limit the amount of additional chlorpyrifos end use products that can be produced from this MUP.

• Sale and distribution of existing stocks of Chlorpyrifos 4 EC (84229-20) will be permitted until April 30, 2025.

• Use of existing stocks of Chlorpyrifos 4 EC (84229-20) on food, food processing sites, and food manufacturing sites must be consistent with the product labeling and will be permitted until June 30, 2025.

• Use of existing stocks of Chlorpyrifos 61.5% MUP (81964-21) and Chlorpyrifos 4 EC (84229-20) for non-food purposes is permitted until existing stocks are exhausted, as long as such use is in accordance with the labeling.

After these dates, sale and distribution of existing stocks will be prohibited, except for export consistent with FIFRA section 17 (7 U.S.C. 136o), or for proper disposal in accordance with state regulations.

B. Products Listed in Table 2 of Unit II

The products listed in Table 2 of Unit II. bear labeling only for non-food use. Therefore, EPA is allowing sale and distribution of existing stocks of those products for one year after publication of the cancellation order. Thereafter, sale and distribution of existing stocks of the product will be prohibited, except for export consistent with FIFRA section 17 (7 U.S.C. 136o), or for proper disposal in accordance with state regulations.

Use of existing stocks is permitted until such stocks are exhausted, provided that use is consistent with the terms of the previously approved labeling on, or that accompanied, the cancelled products.

Authority: 7 U.S.C. 136 et seq.

Dated: August 2, 2024.
Jean Overstreet,
Director, Pesticide Re-Evaluation Division, Office of Pesticide Programs.

[FR Doc. 2024-17453 Filed 8-6-24; 8:45 am]

BILLING CODE 6560-50-P